FEDERAL COMMUNICATIONS COMMISSION

47 CFR Part 51

[CC Docket No. 98-147; FCC 99-355]

Deployment of Wireline Services Offering Advanced Telecommunications Capability

AGENCY: Federal Communications Commission.

ACTION: Final rule; announcement of effective date.

SUMMARY: The Commission adopted measures to promote the availability of competitive broadband xDSL-based services, especially to residential and small business customers. This document amends the Commission's unbundling rules to require incumbent LECs to provide unbundled access to a new network element, the high frequency portion of the local loop. This will enable competitive LECs to compete with incumbent LECs to provide access to consumers xDSL-based services through telephone lines that the competitive LECs can share with incumbent LECs. In addition, the document adopts spectrum management policies and rules to facilitate the competitive deployment of advanced services. These rules will significantly benefit the rapid and efficient deployment of xDSL-based technologies.

DATES: The amendments to 47 CFR 51.5, 51.319(a)(1) through (7), 51.230, 51.231 and 51.232 published at 64 FR 1331, became effective on January 10, 2000.

FOR FURTHER INFORMATION CONTACT: Staci Pies, Attorney, Common Carrier Bureau, Policy and Program Planning Division, (202) 418-1580.

SUPPLEMENTARY INFORMATION: On December 22, 1999, the Office of Management and Budget (OMB) approved the amendments to the public file rules pursuant to OMB control No. 3060-0848. Accordingly, the rules in § 51.5, 51.319(a)(1) through (7), 51.230, 51.231 and 51.232 became effective on January 10, 2000.

List of Subjects in 47 CFR Part 51

Communications, Common carriers, Telecommunications, Federal Communications Commission.

Magalie Roman Salas,
Secretary.

[FR Doc. 00-3942 Filed 2-17-00; 8:45 am]

BILLING CODE 6712-01-P